POSTAL SERVICE

Market Test of Experimental Product: “Gift Cards”

AGENCY: Postal Service ™.

ACTION: Notice.

SUMMARY: The Postal Service gives notice of a market test of an experimental product in accordance with statutory requirements.

DATES: January 18, 2011.

FOR FURTHER INFORMATION CONTACT: David H. Rubin, 202-268-2986.

SUPPLEMENTARY INFORMATION: The United States Postal Service® hereby gives notice pursuant to 39 U.S.C. 3641(c)(1) that it will begin a market test of its “Gift Cards” experimental product on or around May 1, 2011. The Postal Service has filed with the Postal Regulatory Commission a notice setting out the basis for the Postal Service's determination that the market test is covered by 39 U.S.C. 3641 and describing the nature and scope of the market test. Documents are available at http://www.prc.gov, Docket No. MT2011-2.

Neva R. Watson,
Attorney, Legislative.

[FR Doc. 2011-857 Filed 1-14-11; 8:45 am]

BILLING CODE 7710-12-P